DEPARTMENT OF TRANSPORTATION

Federal Aviation Administration

Notice of Intent To Rule on Application 02-01-C-00-PIR To Impose and Use the Revenue From a Passenger Facility Charge (PFC) at Pierre Regional Airport, Pierre, SD

AGENCY: Federal Aviation Administration (FAA), DOT.

ACTION: Notice of intent to rule on Application.

SUMMARY: The FAA proposes to rule and invites public comment on the application to impose and use the revenue from a PFC at Pierre Regional Airport under the provisions of the 49 U.S.C. 40117 and Part 158 of the Federal Aviation Regulations (14 CFR part 158).

DATES: Comments must be received on or before date, which is 30 days after publication in the Federal Register.

ADDRESSES: Comments on this application may be mailed or delivered in triplicate to the FAA at the following address: Bismarck Airports District Office, 2301 University Drive, Building 23B, Bismarck, North Dakota 58504.

In addition, one copy of any comments submitted to the FAA must be mailed or delivered to Mr. Mason Short, Airport Director, of the City of Pierre, South Dakota at the following address: P.O. Box 1253, Pierre, South Dakota 57501.

Air carriers and foreign car carriers may submit copies of written comments previously provided to the City of Pierre, South Dakota under section 158.23 of Part 158.

FOR FURTHER INFORMATION CONTACT: Mr. Thomas T. Schauer, Program Manager, Bismarck Airports District Office, 2301 University Drive, Building 23B, Bismarck, North Dakota 58504, (701) 323-7380. The application may be reviewed in person at this same location.

SUPPLEMENTARY INFORMATION: The FAA proposes to rule and invites public comment on the application to impose and use the revenue from a PFC at Pierre Regional Airport under the provisions of the 49 U.S.C. 40117 and Part 158 of the Federal Aviation Regulations (14 CFR part 158).

On August 8, 2002, the FAA determined that the application to impose and use the revenue from a PFC submitted by City of Pierre, South Dakota was substantially complete within the requirements of section 158.25 of Part 158. The FAA will approve or disapprove the application, in whole or in part, no later than November 8, 2002.

The following is a brief overview of the application.

Proposed charge effective date: February 1, 2003.

Proposed charge expiration date: June 1, 2008.

Level of the proposed PFC: $4.50.

Total estimated PFC revenue: $366,239.

Brief description of proposed projects: Preparation of initial PFC, Rehabilitation of Runway 7/25, Taxiway “C” Re-construction, General Aviation Ramp Re-Construction, Snow Removal Equipment (Front End Loader and Truck), Passenger Loading Ramp, Air Carrier Terminal Apron/Rehabilitation, Update Airport Master Plan and Airport Layout Plan, Perimeter and Airport Boundary Fence, General Aviation Apron Improvements.

Any person may inspect the application in person at the FAA office listed above under FOR FURTHER INFORMATION CONTACT.

In addition, any person may, upon request, inspect the application, notice and other documents germane to the application in person at the City of Pierre, South Dakota.

Issued in Des Plaines, Illinois on September 10, 2002.
Mark McClardy,
Manager, Planning and Programming Branch, Airports Division, Great Lakes Region.

[FR Doc. 02-24669 Filed 9-26-02; 8:45 am]

BILLING CODE 4910-13-M